DEPARTMENT OF THE TREASURY

Submission for OMB Review; Comment Request

October 25, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11100, 1750 Pennsylvania Avenue, NW., Washington, DC 20220.

Dates: Written comments should be received on or before December 2, 2002 to be assured of consideration.

Bureau of Alcohol, Tobacco and Firearms (BATF)

OMB Number: New.

Form Number: None.

Type of Review: New collection.

Title: Evaluation of Training, Arson for Prosecutors Training Program (Follow-up Survey).

Description: The information collected on the survey will enable ATF to determine the effectiveness of the training program. The Kirkpatrick 4-level model is used to evaluate ATF training programs. The survey is designed to measure at Level 3. This level determines whether the training program has changed the behavior of the participants. Specifically, is what they have learned being applied on the job. This is also called transfer of learning.

Respondents: State, Local, or Tribal Government.

Estimated Number of Respondents: 125.

Estimated Burden Hours Per Respondent: 15 minutes.

Estimated Total Reporting Burden: 63 hours.

OMB Number: New.

Form Number: ATF F 5013.2.

Type of Review: New.

Title: COLAs Online Access Request.

Description: The information on this form will be used by ATF to authenticate end users in the system to electronically file Certificates of Label Approval (COLAs). The system will authenticate end users by comparing information submitted to records in multiple databases.

Respondents: Business or other for-profit.

Estimated Number of Respondents: 1,000.

Estimated Burden Hours Per Respondent: 18 minutes.

Frequency of Response: Other (One-time).

Estimated Total Reporting Burden: 300 hours.

OMB Number: 1512-0199.

Form Number: ATF F 5110.30.

Type of Review: Extension.

Title: Drawback on Distilled Spirits Exported.

Description: ATF F 5110.30 is used by persons who export distilled spirits and wish to claim a drawback of taxes already paid in the United States (US). The form describes the claimant, spirits for tax purposes, amount of tax to be refunded, and a certification by the U.S. Government agent attesting to exportation.

Respondents: Business or other for-profit.

Estimated Number of Respondents: 100.

Estimated Burden Hours Per Respondent: 2 hours.

Frequency of Response: On occasion.

Estimated Total Reporting Burden: 10,000 hours.

OMB Number: 1512-0214.

Form Number: ATF F 5110.74.

Type of Review: Extension.

Title: Application and Permit Under 26 U.S.C. 5181—Alcohol Fuel Producer.

Description: This form is used by persons who wish to produce and receive spirits for the production of alcohol fuels as a business or for their own use and for State and local registration where required. The form describes the person(s) applying for the permit, location of the proposed operation, type of material used for production and amount of spirits to be produced.

Respondents: Business or other for-profit.

Estimated Number of Respondents: 734.

Estimated Burden Hours Per Respondent: 1 hour, 48 minutes.

Frequency of Response: On occasion.

Estimated Total Reporting Burden: 1,321 hours.

Clearance Officer: Jacqueline White (202) 927-8930, Bureau of Alcohol, Tobacco and Firearms, Room 3200, 650 Massachusetts Avenue, NW., Washington, DC 20226.

OMB Reviewer: Joseph F. Lackey, Jr. (202) 395-7316, Office of Management and Budget, Room 10235, New Executive Office Building, Washington, DC 20503.

Mary A. Able,
Departmental Reports Management Officer.

[FR Doc. 02-27709 Filed 10-30-02; 8:45 am]

BILLING CODE 4810-31-P